DEPARTMENT OF LABOR

Employment and Training Administration

[TA-W-56,695]

Tyco Electronics, Printed Circuit Group, Stafford Division, Stafford, Connecticut; Notice of Termination of Investigation

Pursuant to Section 221 of the Trade Act of 1974, as amended, an investigation was initiated on March 7, 2005, in response to a petition filed by a State agency representative on behalf of workers of Tyco Electronics, Printed Circuit Group, Stafford Division, Stafford, Connecticut.

The petitioner has requested that the petition be withdrawn. Consequently, the investigation has been terminated.

Signed in Washington, DC this 15th day of April 2005.
Linda G. Poole,
Certifying Officer, Division of Trade Adjustment Assistance.

[FR Doc. E5-2116 Filed 5-2-05; 8:45 am]

BILLING CODE 4510-30-P